FEDERAL MARITIME COMMISSION

[Docket No. 03-12]

San Diego Unified Port District v. Pacific Maritime Association; Notice of Filing of Complaint and Assignment

Notice is given that a complaint has been filed by San Diego Unified Port District (“Complainant”) against Pacific Maritime Association (“Respondent”). Complaint contends that Respondent took action that reprioritized the unloading of cargo ships at the Port of San Diego (“Port”). The Complaint claims that this “action took away priority unloading of refrigerated cargo” which allegedly has put the Port at a competitive disadvantage with other Southern California ports, and has further exacerbated already existing labor problems at the Port. Complaint alleges that Respondent's actions violate sections 10(d)(1), (2) and (4) of the Shipping Act of 1984, 46 U.S.C. app.1709. Complainant seeks an order finding Respondent to have violated the sections cited above, directing Respondent to cease and desist, and awarding reparations for the unlawful conduct in an amount of $87,814, with interest and counsel's fees.

This proceeding has been assigned to the Office of Administrative Law Judges. Hearing in this matter, if any is held, shall commence with the time limitations prescribed in 46 CFR 502.61, and only after consideration has been given by the parties and the presiding officer to the use of alternative forms of dispute resolution. The hearing shall include oral testimony and cross-examination in the discretion of the presiding officer only upon showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by October 18, 2004 and a final decision of the Commission shall be issued by February 5, 2005.

Bryant L. VanBrakle,
Secretary.

[FR Doc. 03-27111 Filed 10-27-03; 8:45 am]

BILLING CODE 6730-01-P